DEPARTMENT OF TRANSPORTATION

Federal Transit Administration

FY 2023 Competitive Funding Opportunity: Transit Worker and Rider Safety (TWRS) Best Practices Research Project

AGENCY: Federal Transit Administration (FTA), Department of Transportation (DOT).

ACTION: Notice of funding opportunity (NOFO).

SUMMARY: The Federal Transit Administration (FTA) announces the opportunity to apply for up to $500,000 in fiscal year (FY) 2021 funds for a single cooperative agreement for a research project to help transit agencies address operator and rider assaults. The goals of this research project are to identify public safety risks for transit vehicle operators and riders, determine the most effective mitigation strategies to minimize those risks, and promote the implementation of those strategies.

DATES: Complete proposals must be submitted electronically through the Grants.gov “APPLY” function by 11:59 p.m. Eastern time on February 13, 2023. The funding opportunity ID is FTA-2023-005-TRI-TWRS. Mail and fax submissions will not be accepted.

FOR FURTHER INFORMATION CONTACT: Roy Chen, FTA Office of Research, Demonstration, and Innovation, 202-366-0462, royweishun.chen@dot.gov.

SUPPLEMENTARY INFORMATION:

Table of Contents

A. Program Description

B. Federal Award Information

C. Eligibility Information

D. Application and Submission Information

E. Application Review Information

F. Federal Award Administration Information

G. Federal Awarding Agency Contacts

H. Other Information

A. Program Description

According to the National Transit Database (NTD), the number of transit worker and rider assault incidents have been trending upward. The data shows a roughly five-fold increase in transit assault incidents reported from 2009 (319 reported incidents) to 2019 (1539 reported incidents). To address this issue and help reduce assaults on transit systems across the nation, FTA will competitively award up to $500,000 in Public Transportation Innovation Program funds (49 U.S.C. 5312) for a research cooperative agreement to improve the safety of transit vehicle operators and riders. This notice of funding opportunity (NOFO) (Federal Assistance Listing: 20.530) aligns with the U.S. Department of Transportation's (DOT) strategic goals and FTA's focus to improve and enhance the safety of America's public transportation systems.

The Transit Worker and Rider Safety Best Practices Research Project will be carried out in two phases.

Phase I: Transit Worker and Rider Safety Best Practices Report.

Phase II: Transit Worker and Rider Safety Pilot Demonstration Project.

This notice provides funding only for Phase I. In Phase I, the selected applicant will conduct research in the following areas: (1) identifying key issues and trends in operator and rider assaults by evaluating available data on operator and rider assaults from various sources, including the NTD; (2) assessing assault data quality and accuracy reported to the NTD; (3) documenting and assessing mitigation strategies and solutions for the issues and trends identified; (4) developing outreach materials and tools that can be used by the industry to effectively implement the identified mitigation measures; and (5) proposing a bold and innovative pilot demonstration project that can showcase the utility of those mitigation strategies and promote the adoption of those solutions. FTA may, at its discretion, implement the proposed pilot demonstration project for a Phase II. The decision will be made after the completion of Phase I of this research project.

Because this notice provides funding only for Phase I, applicants should submit proposals to address only Phase I. Eligibility for Phase II is subject to the availability of future funding, the quality of the materials developed in Phase I, and the merit of the proposed pilot demonstration project developed in Phase I.

This research effort builds upon FTA's prior safety efforts such as the Bus Compartment Redesign Program launched on October 8, 2020 (https://www.transit.dot.gov/research-innovation/redesign-transit-bus-operator-compartment-improve-safety-operational-efficiency), and the request for information on Transit Worker Safety released in the Federal Register on September 24, 2021 (https://www.transit.dot.gov/about/news/federal-transit-administration-announces-request-information-transit-worker-safety).

B. Federal Award Information

This Notice makes available up to $500,000 in Public Transportation Innovation Program (49 U.S.C. 5312) funds for a single award to improve transit vehicle operator and rider safety. Only proposals from eligible recipients for eligible activities will be considered for funding. FTA seeks a project that can begin implementation within three months after award of the Cooperative Agreement. The maximum period of performance allowed for the work covered by the award should not exceed 24 months from the date of award. FTA will extend the period of performance if Phase II is approved and funded. Pre-award authority is subject to FTA approval and is only available for costs incurred after the announcement of a project selection on FTA's website.

The project selected under this competition is for research and development and, as such, FTA Research Circular 6100.1E (available at https://www.fta.dot.gov/regulations-and-guidance/fta-circulars/research-technical-assistance-and-training-program) guidance will apply in administering the program. The applicant whose proposal is selected for funding will receive a cooperative agreement award with FTA to be administered according to Circular 6100.1E. FTA will have substantial involvement in the administration of the cooperative agreement. FTA's role includes the right to participate in decisions to redirect and reprioritize project activities, goals, and deliverables.

C. Eligibility Information

1. Eligible Applicants

Eligible applicants under this notice include the following:

• Providers of public transportation, including public transportation agencies, state or local government DOTs, and Federally recognized Native American tribes;

• Private for-profit and not-for-profit organizations, consultants, research consortia, and industry organizations;

• State, city, or local government entities, including multi-jurisdictional partnerships, and organizations such as Metropolitan Planning Organizations; or

• Institutions of higher education including large research universities, and technical and community colleges, particularly those with Minority Serving Institution status.

On the application form, eligible applicants are encouraged to identify one or more project partners with a substantial interest and involvement in the project to participate in the implementation of the project. If an application that involves such a partnership is selected for funding, the competitive selection process will be deemed to satisfy the requirement for a competitive procurement under 49 U.S.C. 5325(a) for the named entities. Applicants are advised that any changes to the proposed partnership will require FTA written approval, must be consistent with the scope of the approved project, and may necessitate a competitive procurement.

The applicant must be able to carry out the proposed agreement and procurements, if needed, with project partners in compliance with all applicable Federal, state, and local laws.

To be considered eligible, applicants must be able to demonstrate the requisite legal, financial, and technical capabilities to receive and administer Federal funds under this program.

2. Cost Sharing or Matching

The maximum Federal share of project costs under this program is limited to 80 percent. Applicants may seek a lower Federal contribution. The applicant must provide the non-Federal share of the net project cost in cash or in-kind, and must document in its application the source of the non-Federal match. Eligible sources of non-Federal match are detailed in FTA Circular 6100.1E.

3. Eligible Projects

This notice solicits applications for a project to analyze the available safety data from the NTD and other available datasets for current trends and safety issues with operator and rider assaults, including an assessment of data quality and accuracy reported to the NTD. A critical component of this project is close collaboration across industry stakeholders to identify and document current best practices, mitigation strategies used and their effectiveness. This research will inform the development of outreach materials and tools (virtual or physical) that can be used by transit agencies to implement risk mitigation strategies to reduce operator and rider assaults. As part of the project, FTA requires the project team to propose a pilot demonstration project, which FTA may approve for implementation in a Phase II, to showcase a comprehensive risk mitigation approach that could be implemented by transit operators to effectively reduce operator and rider assault incidents using information and lessons gathered from the research conducted in Phase I.

Applicants are encouraged to note the application of Safe Systems Approach strategies as appropriate. For more information on the DOT's Safe Systems Approach, please visit: What is a Safe System Approach? | US Department of Transportation (https://www.transportation.gov/NRSS/SafeSystem).

This effort seeks to harness Federal, local, and private sector investments to improve safety for transit workers and riders. As such, FTA seeks applications for a project that improves the current state of practice or builds on existing successful programs and partnership efforts.

Software products developed under this project will be subject to the provisions of FTA's Master Agreement, the latest version of which is available at https://www.transit.dot.gov/grantee-resources/sample-fta-agreements/ and may be disseminated to public transit agencies for their use. Software developed under this program should be interoperable, adaptable, and secure. Further, the applicants should consider how the development effort could support the development or use of open standards, specifications, or protocols if the project involves software development.

It is FTA's intent to advance safety innovations that are of national significance and can provide benefit to transit agencies, cities, and communities across the United States. As such, applicants should consider how to structure development efforts to ensure research outputs are broadly relevant and can lead to adoption or use by other transit agencies or transportation providers.

D. Application and Submission Information

1. Address To Request Application

Applications must be submitted electronically through Grants.gov. General information for submitting applications through Grants.gov can be found at www.transit.dot.gov/howtoapply. A complete proposal submission consists of two forms: the SF-424 Application for Federal Assistance (available at Grants.gov) and the supplemental form for the FY 2023 TWRS NOFO (downloaded from Grants.gov or the FTA website at https://www.transit.dot.gov/funding/grants/TWRS. Failure to submit the information as requested can delay review or disqualify the application.

2. Content and Form of Application Submission

a. Proposal Submission

A complete proposal submission consists of two forms: (1) the SF-424 Application for Federal Assistance; and (2) the supplemental form for the FY 2023 Transit Worker and Rider Safety Best Practice Research NOFO. The supplemental form and any supporting documents must be attached to the “Attachments” section of the SF-424. The application must include responses to all sections of the SF-424 Application for Federal Assistance and the supplemental form, unless indicated as optional. The information on the supplemental form will be used to determine applicant and project eligibility for the program, and to evaluate the proposal against the selection criteria described in Section E of this notice.

FTA will accept only one supplemental form per SF-424 submission. Applicants may attach additional supporting information to the SF-424 submission, including but not limited to letters of support from key stakeholders, project budgets, visual aids, excerpts from relevant planning documents, or project narratives. Any supporting documentation must be described and referenced by file name in the appropriate response section of the supplemental form, or else it may not be reviewed.

Information such as applicant name, Federal amount requested, local match amount, and description of areas served may be requested in varying degrees of detail on both the SF-424 and supplemental form. Applicants must complete all fields unless stated otherwise on the forms. If information is copied into the supplemental form from another source, applicants should verify that pasted text is fully captured on the supplemental form and has not been truncated by the character limits built into the form. Applicants should use both the “Check Package for Errors” and the “Validate Form” validation buttons on both forms to check all required fields on the forms and ensure that the Federal and local amounts specified are consistent.

b. Application Content

The SF-424 Application for Federal Assistance and the supplemental form will prompt applicants for the required information, including:

1. Applicant name.

2. Unique Entity ID (provided by SAM).

3. Key contact information (including name, address, email address, and phone).

4. Congressional district(s) where the project will take place.

5. Project information (including title, an executive summary, and type).

6. Information on areas served by the project including current state of public transportation and state of mobility in the area served if the application includes transit agencies as part of the project team.

7. A detailed description of the project and how it will (a) analyze the available datasets on operator and rider assaults for trends and issues, (b) an assessment of assault data quality and accuracy reported to the NTD, (c) document and assess mitigation strategies and solutions and their effectiveness; (d) develop outreach materials and tools that can be used by the transit industry to implement mitigation strategies and solutions; (e) propose a pilot demonstration project to showcase and promote those solutions.

8. A description of the project implementation strategy.

9. A description of the approach to data and data access, including how the project will support the USDOT's public data access requirements.

10. Information on any project partners, their role, and anticipated contributions.

11. A description of the technical, legal, and financial capacity of the applicant and partners.

12. A detailed project budget, specifying Federal and local share.

13. A detailed project timeline.

3. Unique Entity Identifier and System for Award Management (SAM)

Each applicant is required to: (1) be registered in SAM before submitting an application; (2) provide a valid unique entity identifier (UEI) in its application; and (3) continue to maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant has an exception approved by FTA or the U.S. Office of Management and Budget under 2 CFR 25.110(c) or (d). Applicants should reference 2 CFR 200.113, for more information. SAM registration takes approximately 3-5 business days, but FTA recommends allowing ample time, up to several weeks, for completion of all steps. For additional information on obtaining a unique entity identifier, please visit https://www.sam.gov.

4. Submission Dates and Times

Project proposals must be submitted electronically through Grants.gov by 11:59 p.m. Eastern Time on February 13, 2023. Grants.gov attaches a time stamp to each application at the time of submission. Proposals submitted after the deadline will only be considered under extraordinary circumstances not under the applicant's control. Mail and fax submissions will not be accepted.

FTA urges applicants to submit applications at least 72 hours prior to the due date to allow time to receive the validation messages and to correct any problems that may have caused a rejection notification. Grants.gov scheduled maintenance and outage times are announced on the Grants.gov website. Deadlines will not be extended due to scheduled website maintenance.

Within 48 hours after submitting an electronic application, the applicant should receive an email message from Grants.gov with confirmation of successful transmission to Grants.gov. If a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the Grants.gov site well in advance of the submission deadline. Registration is a multi-step process, which may take several weeks to complete before an application can be submitted. Registered applicants may still be required to take steps to keep their registration up to date before submissions can be made successfully: (1) registration in SAM must be renewed annually, and (2) persons making submissions on behalf of the Authorized Organization Representative (AOR) must be authorized in Grants.gov by the AOR to make submission.

5. Funding Restrictions

Funds available under this NOFO cannot be used to reimburse applicants for otherwise eligible expenses incurred prior to FTA issuing pre-award authority for selected projects.

Refer to Section C.3., Eligible Projects, for information on activities that are allowable. Allowable direct and indirect expenses must be consistent with the Governmentwide Uniform Administrative Requirements and Cost Principles (2 CFR part 200) and FTA Circular 5010.1E.

6. Other Submission Requirements

All applications must be submitted via the Grants.gov website. FTA does not accept applications on paper, by fax machine, email, or other means. For information on application submission requirements, please see Section D.1., Address to Request Application. If the applicant encounters system problems or technical difficulties using the Grants.gov website, the applicant should address those technical issues to Grants.gov.

E. Application Review Information

1. Criteria

Proposals will be evaluated primarily on the responses provided in the supplemental form. Additional information may be provided to support the responses; however, any additional documentation must be directly referenced on the supplemental form, including the file name where the additional information can be found. FTA will evaluate proposals based on the criteria described in this notice.

a. Proposal Team Subject Matter Expertise

FTA will evaluate the experience of the project team and any named project partners in the application. Applicants should clearly demonstrate the knowledge and expertise of the team in the subject matter of this NOFO, specifically in the areas of transit operations, transit safety, data analysis, the NTD and other relevant data sources, Safe Systems Approaches, development of outreach and marketing materials on best practices, involvement with knowledge transfer activities and leading research demonstration projects. Applicants are advised to submit information on any partner's qualifications and experience as part of the application. Entities who will be involved in the project but not named in the application will be required to be selected through a competitive procurement.

b. Project Implementation Strategy

Proposals will be evaluated based on the extent to which the applicant's proposed implementation plans, including all necessary project milestones and the overall project timeline, are reasonable and complete. FTA will consider the risks to project implementation, and the extent to which the project implementation strategy addresses these risks, including the capacity to implement the project within three months after award of the Cooperative Agreement; ability to complete the project, Phase I, within 24 months of award; and capacity to lead Phase II of the research project if it is approved. FTA will also consider if the project's implementation addresses how the project will support DOT's data collection, sharing policies and meeting the data management plan requirement (see below).

c. Technical, Legal, and Financial Capacity

Applicants must demonstrate the financial organizational capacity and managerial experience to successfully oversee and implement this proposed project. Applicants with outstanding legal, technical, or financial compliance issues from an FTA compliance review or FTA grant-related Single Audit finding must disclose and explain how corrective actions will mitigate negative impacts on the proposed project. FTA may review relevant oversight assessments and records to determine whether there are any outstanding legal, technical, or financial issues with the applicant that would affect the outcome of the proposed project.

d. Planning and Partnerships

Applicants must identify all project partners and their specific roles. FTA will evaluate the extent to which the project contains strong, cohesive partnerships and the collaboration necessary to successfully implement the proposed project. Applications should describe how project partners plan to work collaboratively and should show evidence of strong commitment and cooperation among project partners through letters of support or agreements among the partners. For proposed projects that will require formal coordination, approvals, or permits from government agencies or project partners, the applicant must demonstrate coordination with these organizations and their support for the project, such as through letters of support.

e. Local Financial Commitment

Applicants must identify the source of the non-Federal cost share and describe whether such funds are currently available for the project or will need to be secured if the project is selected for funding. FTA will consider the availability of the non-Federal cost share as evidence of the applicant's financial commitment to the project. Additional consideration may be given to those projects with a higher non-Federal share of costs and for which non-Federal funds have already been made available or reserved. Applicants should submit evidence of the availability of funds for the project, for example, by including a board resolution, letter of support from the State, a budget document highlighting the line item or section committing funds to the proposed project, or other documentation of the source of non-Federal funds.

2. Review and Selection Process

A technical evaluation committee will evaluate proposals based on the published evaluation criteria. Members of the technical evaluation committee may request additional information from applicants, if necessary. Based on the findings of the technical evaluation committee, FTA will determine the final selection of a single project, or none, for final award.

Prior to making an award, FTA is required to review and consider any information about the applicant in the Federal Awardee Performance and Integrity Information System (FAPIIS) accessible through SAM. An applicant may review and comment on any information about itself that a Federal awarding agency previously entered. FTA will consider any comments by the applicant, in addition to the other information in FAPIIS, in making a judgment about the applicant's integrity, business ethics, and record of performance under Federal awards when completing the review of risk posed by applicants as described in the Office of Management and Budget's Uniform Requirements for Federal Awards (2 CFR 200.206).

F. Federal Award Administration Information

1. Federal Award Notices

FTA will announce the final project selection on the FTA website.

2. Administrative and National Policy Requirements

a. Pre-Award Authority

At the time the project selection is announced, FTA may extend pre-award authority for the selected project. There is no blanket pre-award authority before announcement. FTA will issue specific guidance to the recipient regarding pre-award authority at the time of selection. FTA does not consider requests for pre-award authority for competitive funds until after projects are selected, and additional Federal requirements must be met before costs are incurred. For more information about FTA's policy on pre-award authority, please see the most recent Apportionments, Allocations and Program Information Notice at https://www.transit.dot.gov.

b. Cooperative Agreement Requirements

If selected, the awardee will apply for a cooperative agreement through FTA's Transit Award Management System (TrAMS). The successful applicant must be prepared to submit a final statement of work and complete the application in TrAMS within 60 days of notification of selection. The recipient must follow the requirements of FTA Circular 6100.1E. Technical assistance regarding these requirements is available from FTA.

c. Buy America

All capital procurements must comply with FTA's Buy America requirements (49 U.S.C. 5323(j)), which require that all iron, steel, and manufactured products be produced in the United States. In addition, any award made after May 14, 2022, must comply with the Build America, Buy America Act (BABA) (Pub. L. 117-58 §§ 70901-52). BABA provides that none of the funds provided under an award made pursuant to this notice may be used for a project unless all iron, steel, manufactured products, and construction materials are produced in the United States. FTA's Buy America requirements are consistent with BABA requirements for iron, steel, and manufactured products.

d. Disadvantaged Business Enterprise

FTA requires that its recipients receiving planning, capital, or operating assistance that will award prime contracts exceeding $250,000 in FTA funds in a Federal fiscal year comply with the U.S. Department of Transportation's Disadvantaged Business Enterprise (DBE) program regulations (49 CFR part 26). If an applicant also receives FTA planning, capital, or operating assistance, it should expect to include any funds awarded, excluding those to be used for vehicle procurements, in setting its overall DBE goal. Note, however, that projects including vehicle procurements remain subject to the DBE program regulations.

e. Standard Assurances

If an applicant receives an award, the applicant must assure that it will comply with all applicable Federal statutes, regulations, executive orders, directives, FTA circulars, and other Federal administrative requirements in carrying out any project supported by the FTA award. The applicant acknowledges that it will be under a continuing obligation to comply with the terms and conditions of the agreement issued for its project with FTA. The applicant understands that Federal laws, regulations, policies, and administrative practices might be modified from time to time and may affect the implementation of the project. The most recent Federal requirements will apply to the project unless FTA issues a written determination otherwise. The applicant must submit the most recent FTA Certifications and Assurances before receiving an award if it does not have current certifications on file.

f. Data Management Plan

FTA-funded grant recipients must comply with the DOT Public Access Plan. FTA will assess the project's ability to consider, plan, budget for, and implement appropriate data management in accordance with Public Access (https://doi.org/10.21949/1520559) of data and corresponding outputs acquired or generated during the course of the project. The proposed data management will be used as an evaluation criterion. Such requirements will include, but are not limited to:

• providing at a minimum the data and corresponding outputs to: (1) reproduce significant results (whether positive or negative); (2) measure the outcomes or objectives of the project, as well as the NOFO; and (3) add potential value to future deployments or research and to support evidence-based policy or actions;

• developing a data management plan (https://doi.org/10.21949/1520571) (pre-award and post-award), providing relevant metadata (in a DCAT-US https://resources.data.gov/resources/dcat-us/) file, and, optionally, a discipline appropriate metadata standard file), and data documentation (README.txt files, data dictionaries, code books, supporting files, imputation tables, etc.);

• defaulting to open access when appropriate (exceptions include protecting personally identifiable information (PII), Indigenous data sovereignty (https://www.gida-global.org/care), or confidential business information (CBI));

• protecting personal identifiable information, intellectual property rights, and confidential business information;

• utilizing, when possible, open licenses and protecting DOT's non-exclusive copyright to data and corresponding outputs (https://doi.org/10.21949/1520564); and

• providing source code or tools necessary to analyze or transform the data.

Projects should implement data management best practices, including, but not limited to: implementation of published data specifications and standards (formal and informal); increasing data discoverability and data sharing; posting data in a timely fashion ¹ on publicly accessible resources; and enabling interaction of systems, interoperability, and integration of data systems. A data management plan will be required as a deliverable within three (3) months of project award.

¹ The frequency of posting data will be determined in the post-award phase. For example, this might be near-real time, monthly, or quarterly depending on specific data set needs.

Definition: Data and Corresponding Outputs is defined for the purpose of this grant, and as consistent with Federal laws (including 2 CFR 200.315, as it relates to “intangible property”) and the DOT Public Access Plan (https://doi.org/10.21949/1520559), as the recorded factual material commonly accepted in the scientific or technology community as necessary to validate findings, as may be textually represented in a publication or stored in a digital machine-readable format for further computational analysis. This term includes, but is not limited to, publications, data, data documentation, source code, and computer software documentation. This definition includes at a minimum the data required to validate or estimate performance, outcomes, or future impacts.

g. External Communications

The recipient must communicate with the FTA Project Manager prior to engaging in any external communications regarding the project. This includes any work developing news or magazine stories with media organizations, including print, video, online, or otherwise. Additionally, the FTA project manager must be notified if project information, including results and metrics, will be shared during a webinar or other presentation open to the public produced either by the recipient itself or another organization. The recipient should consult with the FTA Project Manager at the beginning of the agreement to discuss and plan any external communications about the project.

h. Software Provisions

Any software developed as a part of this solicitation will be subject to provisions of the version of FTA's Master Agreement in effect at the time of award and may be disseminated to public transit agencies for their use.

i. FTA Funds Reimbursement

If selected, awardees must disburse funds from their cooperative agreement using DOT's Delphi system. Drawdowns using ECHO are prohibited. FTA staff are available to assist awardees with gaining access and using the Delphi system.

j. Termination for Failure To Make Reasonable Progress

After providing written notice to the recipient of a project selected for funding, FTA may withdraw its support for the selected project (if a cooperative agreement has not yet been awarded) or suspend or terminate all or any part of the award if, among other reasons, the recipient has failed to make reasonable progress implementing the project. In particular, FTA may withdraw its support for a project or terminate an award agreement if:

a. A recipient has not completed its application for funding in TrAMS within 60 days of the date FTA announces project selection;

b. A recipient has not begun its research project within one year after funding was awarded in TrAMS;

c. A recipient has not delivered a project final report to FTA within one year of completing its research project.

The Federal Government may terminate an award at any time for any reason described in 2 CFR 200.340 or the FTA Master Agreement.

3. Reporting

Post-award reporting requirements include the electronic submission of Federal Financial Reports and Milestone Progress Reports in FTA's electronic grants management system. A successful applicant should include any goals, targets, and indicators referenced in their application in the Executive Summary of the TrAMS application.

As part of completing the annual certifications and assurances required of FTA grant recipients, a successful applicant must report on the suspension or debarment status of itself and its principals. If the award recipient's active grants, cooperative agreements, and procurement contracts from all Federal awarding agencies exceed $10,000,000 for any time during the period of performance of an award made pursuant to this Notice, the recipient must comply with the Recipient Integrity and Performance Matters reporting requirements described in Appendix XII to 2 CFR part 200.

G. Federal Awarding Agency Contacts

For further information concerning this notice, please contact Roy Chen, in the FTA Office of Infrastructure & Asset Innovation, by phone at 202-366-0462, or by email at royweishun.chen@dot.gov. A TDD is available for individuals who are deaf or hard of hearing at 800-877-8339. In addition, FTA will post answers to questions and requests for clarifications, if needed, on FTA's website at https://www.transit.dot.gov/funding/grants/TWRS. To ensure applicants receive accurate information about eligibility or the program, applicants are encouraged to contact FTA directly, rather than through intermediaries or third parties, with questions. FTA staff also may conduct briefings on the FY 2023 competitive grants selection and award process upon request.

For issues with Grants.gov, please contact Grants.gov by phone at 1-800-518-4726 or by email at support@grants.gov.

H. Other Information

This program is not subject to Executive Order 12372, “Intergovernmental Review of Federal Programs.”

Nuria I. Fernandez,
Administrator.

[FR Doc. 2022-27197 Filed 12-14-22; 8:45 am]

BILLING CODE 4910-57-P